DEPARTMENT OF TRANSPORTATION

Federal Motor Carrier Safety Administration

[Docket No. FMCSA-2013-0170]

Qualification of Drivers; Exemption Applications; Vision

AGENCY: Federal Motor Carrier Safety Administration (FMCSA), DOT.

ACTION: Notice of applications for exemptions; request for comments.

SUMMARY: FMCSA announces receipt of applications from 43 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before December 12, 2013.

ADDRESSES: You may submit comments bearing the Federal Docket Management System (FDMS) Docket No. FMCSA-2013-0170 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 43 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Dennis S. Anderson

Mr. Anderson, age 45, has had refractive amblyopia in his left eye since childhood. The visual acuity in his right eye is 20/20, and in his left eye, 20/250. Following an examination in 2013, his optometrist noted, “Mr. Anderson has adapted to his condition and should be able to continue to safely operate a commercial motor vehicle.” Mr. Anderson reported that he has driven straight trucks for 14 years, accumulating 254,800 miles, and tractor-trailer combinations for 14 years, accumulating 238,000 miles. He holds a Class A Commercial Driver's License (CDL) from Minnesota. His driving record for the last 3 years shows no crashes and no convictions for moving violations in a CMV.

Calvin J. Barbour

Mr. Barbour, 49, has had a central retinal vein occlusion in his left eye since 2005. The visual acuity in his right eye is 20/20, and in his left eye, 20/400. Following an examination in 2013, his ophthalmologist noted, “In my opinion has sufficient visual function to drive a commercial vehicle.” Mr. Barbour reported that he has driven tractor-trailer combinations for 17 years, accumulating 1.4 million miles. He holds a Class A CDL from New York. His driving record for the last 3 years shows one crash, for which he was not cited, and no convictions for moving violations in a CMV.

Martin D. Bellcour

Mr. Bellcour, 51, has had a retinal detachment in his right eye since 1999. The visual acuity in his right eye is 20/60, and in his left eye, 20/20. Following an examination in 2013, his optometrist noted, “In my opinion Mr. Bellcour has a stable field defect in the right eye which has existed since 1999…The patient should not have a problem operating a commercial vehicle with outside mirrors” Mr. Bellcour reported that he has driven straight trucks for 13 years, accumulating 7,800 miles. He holds a Class BCD CDL from Wisconsin. His driving record for the last 3 years shows no crashes and no convictions for moving violations in a CMV.

Walter A. Breeze

Mr. Breeze, 45, has had presumed ocular histoplasmosis in his left eye since 2006. The visual acuity in his right eye is 20/20, and in his left eye, 20/70. Following an examination in 2013, his optometrist noted, “In my medical opinion, Walter Breeze has sufficient vision to perform driving tasks to operate a commercial motor vehicle.” Mr. Breeze reported that he has driven straight trucks for 27 years, accumulating 2.7 million miles. He holds a Class B CDL from Ohio. His driving record for the last 3 years shows no crashes and no convictions for moving violations in a CMV.

Joseph A. Burdey

Mr. Burdey, 56, has had amblyopia in his right eye since birth. The visual acuity in his right eye is 20/80, and in his left eye, 20/20. Following an examination in 2013, his optometrist noted, “I certify that Mr. Burdey has sufficient vision to perform the driving tasks requires [sic] to operate a commercial vehicle.” Mr. Burdey reported that he has driven straight trucks for 36 years, accumulating 2 million miles. He holds a Class B CDL from New Jersey. His driving record for the last 3 years shows no crashes and no convictions for moving violations in a CMV.

Donald G. Carstensen

Mr. Carstensen, 52, has had a prosthetic left eye since 1995. The visual acuity in his right eye is 20/20, and in his left eye, no light perception. Following an examination in 2013, his ophthalmologist noted, “As long as his visual field measurements meet your requirements, I do believe he has sufficient vision to perform the driving tasks required to operate a commercial vehicle.” Mr. Carstensen reported that he has driven tractor-trailer combinations for 29 years, accumulating 1.8 million miles. He holds a Class A CDL from Iowa. His driving record for the last 3 years shows no crashes and no convictions for moving violations in a CMV.

Jamie D. Daniels

Mr. Daniels, 40, has had an aphakic left eye since childhood. The visual acuity in his right eye is 20/20, and in his left eye, light perception. Following an examination in 2013, his optometrist noted, “His visual condition is stable and he should be able to perform the driving tasks for commercial vehicles.” Mr. Daniels reported that he has driven straight trucks for 3 years, accumulating 30,000 miles. He holds a Class A CDL from Iowa. His driving record for the last 3 years shows no crashes and no convictions for moving violations in a CMV.

James A. Esposito, Jr.

Mr. Esposito, 54, has corneal scarring in his left eye due to a traumatic incident in 1973. The visual acuity in his right eye is 20/20, and in his left eye, 20/60. Following an examination in 2013, his optometrist noted, “I certify that, in my medical opinion, this patient has sufficient vision to operate a commercial motor vehicle.” Mr. Esposito reported that he has driven straight trucks for 16 years, accumulating 100,800 miles. He holds a Class BM CDL from Pennsylvania. His driving record for the last 3 years shows no crashes and no convictions for moving violations in a CMV.

Mark A. Farnsley

Mr. Farnsley, 52, has had refractive amblyopia in his right eye since childhood. The visual acuity in his right eye is 20/100, and in his left eye, 20/20. Following an examination in 2013, his optometrist noted, “In my opinion Mark has sufficient vision to perform the driving tasks required to operate a commercial vehicle.” Mr. Farnsley reported that he has driven straight trucks for 31 years, accumulating 310,000 miles, and tractor-trailer combinations for 30 years, accumulating 150,000 miles. He holds a Class A CDL from Indiana. His driving record for the last 3 years shows one crash, for which he was not cited, and no convictions for moving violations in a CMV.

Michael L. Fiamingo

Mr. Fiamingo, 59, has a macular hole in his left eye due to a traumatic incident in 2010. The visual acuity in his right eye is 20/20, and in his left eye, counting fingers. Following an examination in 2013, his optometrist noted, “In my medical opinion Michael has sufficient vision to perform the driving tasks required to operate a commercial vehicle.” Mr. Fiamingo reported that he has driven straight trucks for 40 year, accumulating 400,000 miles, and tractor-trailer combinations for 35 years, accumulating 700,000. He holds a Class A CDL from Pennsylvania. His driving record for the last 3 years shows no crashes and no convictions for moving violations in a CMV.

Kenric J. Fields

Mr. Fields, 42, has had amblyopia in his left eye since childhood. The visual acuity in his right eye is 20/20, and in his left eye, 20/200. Following an examination in 2012, his optometrist noted, “Kenric has amblyopia of the left eye; this should not affect his ability to drive a commercial vehicle.” Mr. Fields reported that he has driven straight trucks for 10 years, accumulating 75,000 miles. He holds an operator's license from Delaware. His driving record for the last 3 years shows no crashes and no convictions for moving violations in a CMV.

Chris L. Granby

Mr. Granby, 31, has had a stage IV macular hole in his left eye since 2000. The visual acuity in his right eye is 20/20, and in his left eye, 20/100. Following an examination in 2013, his optometrist noted, “In my medical opinion, I feel the central area of Chris's [sic] visual field loss of his left eye has no detrimental effect on his peripheral detection of merging traffic, oncoming vehicles at intersections, etc. The loss of acuity and field at the point of fixation is compensated for by his healthy right eye. As of this examination, I feel Mr. Granby has sufficient vision to operate a vehicle. I do however recommend that he be required to have a yearly dilated fundus evaluation. This is warranted by the medically accepted macular hole evaluation interval of one year, the very small risk of progression, and the added safety concern with commercial vehicle operation.” Mr. Granby reported that he has driven straight trucks for 4 years, accumulating 140,000 miles, and tractor-trailer combinations for 5 years, accumulating 75,000 miles. He holds a Class CA CDL from Michigan. His driving record for the last 3 years shows no crashes and one conviction for a moving violation in a CMV; he exceeded the speed limit by 5 mph.

Dustin K. Heimbach

Mr. Heimbach, 27, has had amblyopia in his right eye since birth. The visual acuity in his right eye is 20/400, and in his left eye, 20/20. Following an examination in 2013, his optometrist noted, “In my opinion, Dustin Heimbach has sufficient vision to operate a commercial vehicle.” Mr. Heimbach reported that he has driven straight trucks for 4 years, accumulating 1.2 million miles, and tractor-trailer combinations for 4 months, accumulating 1500 miles. He holds a Class A CDL from Pennsylvania. His driving record for the last 3 years shows no crashes and no convictions for moving violations in a CMV.

Randall Hjelmtveit

Mr. Hjelmtveit, 60, has had refractive amblyopia in his left eye since birth. The visual acuity in his right eye is 20/20, and in his left eye, 20/150. Following an examination in 2013, his optometrist noted, “In my opinion, Mr. Hjelmtveit can safely have a CDL and operate a motor vehicle as he has over the last 30+ years.” Mr. Hjelmtveit reported that he has driven tractor-trailer combinations for 31 years, accumulating 2.2 million miles. He holds a Class A CDL from Minnesota. His driving record for the last 3 years shows no crashes and no convictions for moving violations in a CMV.

Robert W. Horner

Mr. Horner, 52, has complete loss of vision in his right eye due to a traumatic incident in 1979. The visual acuity in his right eye is no light perceptions, and in his left eye, 20/20. Following an examination in 2013, his optometrist noted, “It is my opinion that he has sufficient vision to perform the driving tasks required to operate a commercial vehicle.” Mr. Horner reported that he has driven straight trucks for 25 years, accumulating 1 million miles. He holds a Class B CDL from Ohio. His driving record for the last 3 years shows no crashes and no convictions for moving violations in a CMV.

Abdelhamid S. Jaafreh

Mr. Jaafreh, 34, has complete loss of vision in his right eye due to a traumatic incident during childhood. The visual acuity in his right eye is counting fingers, and in his left eye, 20/20. Following an examination in 2013, his optometrist noted, “Mr. Jaafreh has permanent damage to OD due to an accident at age 17 . . . He can operate a commercial vehicle with proper caution for field of vision.” Mr. Jaafreh reported that he has driven straight trucks for 3 years, accumulating 66,000 miles. He holds an operator's license from Ohio. His driving record for the last 3 years shows no crashes and no convictions for moving violations in a CMV.

Leonard R. Jackson

Mr. Jackson, 79, has had macular degeneration in his left eye since 2006. The visual acuity in his right eye is 20/20, and in his left eye, 20/200. Following an examination in 2013, his optometrist noted, “It is our medical opinion that with a full visual field and a perfectly normal 20/20 visual acuity in the right eye that Mr. Jackson is able to operate a commercial vehicle without restriction.” Mr. Jackson reported that he has driven straight trucks for 63 years, accumulating 756,000 miles. He holds a Class B CDL from Indiana. His driving record for the last 3 years shows no crashes and no convictions for moving violations in a CMV.

Randy G. Kinney

Mr. Kinney, 47, has had anisometropic amblyopia in his right eye since birth. The visual acuity in his right eye is 20/150, and in his left eye, 20/20. Following an examination in 2013, his optometrist noted, “I feel Randy has sufficient vision to perform the driving tasks required to operate a commercial vehicle.” Mr. Kinney reported that he has driven straight trucks for 4 years, accumulating 2,400 miles. He holds a Class B CDL from Illinois. His driving record for the last 3 years shows no crashes and no convictions for moving violations in a CMV.

Ronnie R. Lockamy

Mr. Lockamy, 42, has had complete loss of vision in his right eye since birth. The visual acuity in his right eye is no light perception, and in his left eye, 20/20. Following an examination in 2013, his optometrist noted, “Mr. Lockamy has had this visual deficiency in his right eye all his life. This deficiency is stable, and he appears to have sufficient visual skills to operate a commercial vehicle.” Mr. Lockamy reported that he has driven straight trucks for 10 years, accumulating 8 million miles, and tractor-trailer combinations for 14 years, accumulating 3.9 million miles. He holds a Class A CDL from North Carolina. His driving record for the last 3 years shows no crashes and no convictions for moving violations in a CMV.

Hector Marquez

Mr. Marquez, 41, has a macular hole in his left eye due to a traumatic injury in 2008. The visual acuity in his right eye is 20/20, and in his left eye, 20/70. Following an examination in 2013, his optometrist noted, “It is in my professional opinion that Mr. Marquez can operate a commercial vehicle.” Mr. Marquez reported that he has driven tractor-trailer combinations for 12 years, accumulating 2 million miles. He holds a Class A CDL from Texas. His driving record for the last 3 years shows no crashes and no convictions for moving violations in a CMV.

Leonard A. Martin

Mr. Martin, 51, has retinal damage in his right eye due to a traumatic incident during childhood. The visual acuity in his right eye is 20/200, and in his left eye, 20/20. Following an examination in 2013, his ophthalmologist noted, “Visual field testing revealed a full field of vision in the left eye . . . Mr. Martin is safe to drive a motor vehicle.” Mr. Martin reported that he has driven straight trucks for 12 years, accumulating 240,000 miles, tractor-trailer combinations for 1.5 years, accumulating 15,000 miles, and buses for 3 years, accumulating 30,000 miles. He holds a Class A CDL from Nevada. His driving record for the last 3 years shows no crashes and no convictions for moving violations in a CMV.

Dennis R. Martinez

Mr. Martinez, 56, has a retinal hole in his left eye due to a traumatic incident during childhood. The visual acuity in his right eye is 20/20, and in his left eye, 20/200. Following an examination in 2013, his optometrist noted, “In my medical opinion Denis [sic] has sufficient vision to perform the tasks required to safely operate a commercial vehicle.” Mr. Martinez reported that he has driven straight trucks for 8 years, accumulating 288,000 miles. He holds a Class A CDL from New Mexico. His driving record for the last 3 years shows no crashes and no convictions for moving violations in a CMV.

Jeffrey D. McGill

Mr. McGill, 57, has amblyopia in his right eye due to a traumatic incident during childhood. The visual acuity in his right eye is 20/100, and in his left eye, 20/20. Following an examination in 2013, his optometrist noted, “In my medical opinion Mr. McGill has sufficient vision to perform the driving tasks of a commercial vehicle.” Mr. McGill reported that he has driven straight trucks for 35 years, accumulating 280,000 miles, and tractor-trailer combinations for 3 years, accumulating 6,000 miles. He holds a Class A CDL from Illinois. His driving record for the last 3 years shows no crashes and no convictions for moving violations in a CMV.

Fred A. Miller, Jr.

Mr. Miller, 58, has a prosthetic right eye due to a traumatic incident during childhood. The visual acuity in his right eye is no light perception, and in his left eye, 20/20. Following an examination in 2013, his optometrist noted, “I believe he has sufficient vision required to operate a commercial vehicle effectively.” Mr. Miller reported that he has driven straight trucks for 14 years, accumulating 364,000 miles. He holds an operator's license from California. His driving record for the last 3 years shows one crash, for which he was not cited, and no convictions for moving violations in a CMV.

Joseph K. Parley

Mr. Parley, 64, has had amblyopia in his left eye since birth. The visual acuity in his right eye is 20/20, and in his left eye, 20/50. Following an examination in 2013, his optometrist noted, “Joseph has sufficient vision to perform the driving tasks required to operate a commercial vehicle.” Mr. Parley reported that he has driven tractor-trailer combinations for 40 years, accumulating 4 million miles. He holds a Class ABCD CDL from Wisconsin. His driving record for the last 3 years shows no crashes and no convictions for moving violations in a CMV.

Robert L. Pearson

Mr. Pearson, 48, has had optic nerve staphyloma in his right eye since birth. The visual acuity in his right eye is hand motion, and in his left eye, 20/20. Following an examination in 2013, his ophthalmologist noted that, in his opinion, Mr. Pearson does have sufficient vision to operate a commercial motor vehicle safely. Mr. Pearson reported that he has driven straight trucks for 3 years, accumulating 75,000 miles. He holds an operator's license from Georgia. His driving record for the last 3 years shows no crashes and no convictions for moving violations in a CMV.

Andres Regalado

Mr. Regalado, 36, has had amblyopia in his left eye since childhood. The visual acuity in his right eye is 20/20, and in his left eye, 20/200. Following an examination in 2013, his optometrist noted, “In my opinion, Andres Regalado does have sufficient vision to perform driving tasks required to operate a commercial vehicle when combined with good defensive driving skills of turning his head before changing lanes and utilizing side mirrors.” Mr. Regalado reported that he has driven tractor-trailer combinations for 3 years, accumulating 60,000 miles. He holds a Class A CDL from California. His driving record for the last 3 years shows no crashes and no convictions for moving violations in a CMV.

Riland O. Richardson

Mr. Richardson, 35, has had a prosthetic left eye since childhood. The visual acuity in his right eye is 20/20, and in his left eye, no light perception. Following an examination in 2013, his optometrist noted that, in his opinion, Mr. Richardson does have sufficient vision to operate a commercial motor vehicle safely. Mr. Richardson reported that he has driven tractor-trailer combinations for 11 years, accumulating 825,000 miles. He holds a Class A CDL from Florida. His driving record for the last 3 years shows no crashes and no convictions for moving violations in a CMV.

Thenon D. Ridley

Mr. Ridley, 38, has had longstanding peripheral retinal degeneration in his right eye since childhood. The visual acuity in his right eye is counting fingers, and in his left eye, 20/20. Following an examination in 2013, his optometrist noted, “Although he does not have at least 70 degrees in the horizontal meridian of the right eye, since patient's condition is longstanding, has a history of driving commercial vehicles, and able to adapt monocularly to his surroundings, patient seems fit to continue to drive.” Mr. Ridley reported that he has driven straight trucks for 4 years, accumulating 134,400 miles, and tractor-trailer combinations for 9 years, accumulating 518,400 miles. He holds a Class A CDL from Texas. His driving record for the last 3 years shows no crashes and no convictions for moving violations in a CMV.

Ryan R. Ross

Mr. Ross, 30, has complete loss of vision in his right eye due to a traumatic incident in 2008. The visual acuity in his right eye is no light perception, and in his left eye, 20/20. Following an examination in 2013, his optometrist noted, “In my opinion he has sufficient vision to perform the driving tasks required to operate a commercial vehicle.” Mr. Ross reported that he has driven straight trucks for 4 years, accumulating 160,000 miles, and tractor-trailer combinations for 1 year, accumulating 1,000 miles. He holds an operator's license from South Carolina. His driving record for the last 3 years shows no crashes and no convictions for moving violations in a CMV.

Troy M. Ruhlman

Mr. Ruhlman, 51, has a prosthetic right eye due to a traumatic incident prior to 1998. The visual acuity in his right eye is no light perception, and in his left eye, 20/15. Following an examination in 2013, his optometrist noted, “There is no reason that Mr. Ruhlman should have any visual problems while operating a commercial vehicle.” Mr. Ruhlman reported that he has driven tractor-trailer combinations for 25 years, accumulating 625,000 miles. He holds a Class AM CDL from Pennsylvania. His driving record for the last 3 years shows no crashes and no convictions for moving violations in a CMV.

Ricky E. Rumfield

Mr. Rumfield, 51, has had amblyopia in his left eye since childhood. The visual acuity in his right eye is 20/20, and in his left eye, 20/200. Following an examination in 2013, his optometrist noted, “My professional, medical opinion remains that Mr. Rumfield has sufficient vision to perform driving tasks required to operate a commercial vehicle.” Mr. Rumfield reported that he has driven straight trucks for 2 days, accumulating 1,030 miles, and buses for 3.8 years, accumulating 91,200 miles. He holds a Class B CDL from Texas. His driving record for the last 3 years shows no crashes and no convictions for moving violations in a CMV.

Ermanno M. Santucci

Mr. Santucci, 35, has had amblyopia in his right eye since childhood. The visual acuity in his right eye is 20/200, and in his left eye, 20/20. Following an examination in 2013, his optometrist noted that Mr. Santucci does not have any visual defects or field loss that would affect the safe operation of a commercial motor vehicle. Mr. Santucci reported that he has driven straight trucks for 4 years, accumulating 100,000 miles. He holds a Class B CDL from Illinois. His driving record for the last 3 years shows no crashes and no convictions for moving violations in a CMV.

Dennis M. Schwartzentruber

Mr. Schwartzentruber, 56, has had wet macular degeneration in his left eye since 2009. The visual acuity in his right eye is 20/20, and in his left eye, 20/80. Following an examination in 2013, his ophthalmologist noted, “Patient in my opinion would pass for Ohio driver's license and also intrastate commercial vehicle license with the above limitations being noted.” Mr. Schwartzentruber reported that he has driven straight trucks for 5 years, accumulating 550,000 miles, and tractor-trailer combinations for 3 months, accumulating 3,000 miles. He holds a Class A CDL from Ohio. His driving record for the last 3 years shows no crashes and no convictions for moving violations in a CMV.

Tigran Semerjyan

Mr. Semerjyan, 40, has an enucleated right eye due to a traumatic incident during childhood. The visual acuity in his right eye is no light perception, and in his left eye, 20/20. Following an examination in 2013, his ophthalmologist noted that Mr. Semerjyan does not have any visual defect or visual field loss that would affect the safe operation of a commercial motor vehicle. Mr. Semerjyan reported that he has driven tractor-trailer combinations for 13 years, accumulating 1.2 million miles. He holds a Class A CDL from California. His driving record for the last 3 years shows no crashes and no convictions for moving violations in a CMV.

Roger H. Sick

Mr. Sick, 74, has had a amblyopia in his left eye since birth. The visual acuity in his right eye is 20/20, and in his left eye, 20/150. Following an examination in 2013, his optometrist noted, “In my medical opinion Roger Sick definitely has the visual skills to allow him to perform the driving tasks required to operate a commercial vehicle.” Mr. Sick reported that he has driven straight trucks for 3 years, accumulating 120,000 miles, and tractor-trailer combinations for 52 years, accumulating 4.7 million miles. He holds a Class A CDL from New York. His driving record for the last 3 years shows no crashes and no convictions for moving violations in a CMV.

Martina B. Talbott

Ms. Talbott, 52, has had amblyopia in her left eye since birth. The visual acuity in her right eye is 20/20, and in her left eye, 20/70. Following an examination in 2013, her optometrist noted, “In conclusion, due to the visual deficiency this patient has in her left eye, when she has both eyes open, the patient is largely using only the right eye. This is demonstrated by her poor stereopsis, or depth perception. Therefore, this patient is just as visually competent to operate a commercial motor vehicle as a monocular patient.” Ms. Talbott reported that she has driven tractor-trailer combinations for 4 years, accumulating 368,006 miles. She holds a Class A CDL from Iowa. Her driving record for the last 3 years shows no crashes and one conviction for a moving violation in a CMV; she failed to obey a traffic sign/signal.

Kirk A. Thelen

Mr. Thelen, 54, has had amblyopia in his left eye since childhood. The visual acuity in his right eye is 20/20, and in his left eye, 20/80. Following an examination in 2013, his optometrist noted, “I certify in my medical opinion that Mr. Thelen has sufficient vision to perform the driving test to operate a commercial vehicle.” Mr. Thelen reported that he has driven tractor-trailer combinations for 31.5 years, accumulating 1.7 million miles. He holds a Class CA CDL from Michigan. His driving record for the last 3 years shows no crashes and no convictions for moving violations in a CMV.

Nicholas J. Vance

Mr. Vance, 35, has complete loss of vision in his left eye due to a traumatic incident during childhood. The visual acuity in his right eye is 20/20, and in his left eye, no light perception. Following an examination in 2013, his optometrist noted, “My patient, Nicholas J. Vance, in my medical opinion has the required vision in one eye to legally obtain his commercial driver's license, which will allow him to operate a commercial vehicle.” Mr. Vance reported that he has driven straight trucks for 2 years, accumulating 10,000 miles. He holds a Class B CDL from Ohio. His driving record for the last 3 years shows no crashes and one conviction for a moving violation in a CMV; he exceeded the speed limit by 12 mph.

Hershel D. Volentine

Mr. Volentine, 53, has a prosthetic left eye since childhood. The visual acuity in his right eye is 20/20, and in his left eye, no light perception. Following an examination in 2013, his ophthalmologist noted, “In my medical opinion, the patient has excellent vision in the right eye with a mild prescription for glasses and should have no problems in operating a commercial vehicle.” Mr. Volentine reported that he has driven straight trucks for 15 years, accumulating 300,000 miles, and buses for 1 year, accumulating 10,000 miles. He holds a chauffer's license from Louisiana. His driving record for the last 3 years shows no crashes and no convictions for moving violations in a CMV.

Gary D. Vollersten

Mr. Vollersten, 70, has a prosthetic right eye due to a traumatic incident during childhood. The visual acuity in his right eye is no light perception, and in his left eye, 20/20. Following an examination in 2013, his ophthalmologist noted, “He has sufficient vision to operate a commercial vehicle.” Mr. Vollersten reported that he has driven straight trucks for 52 years, accumulating 780,000 miles, and tractor-trailer combinations for 15 years, accumulating 300,000 miles. He holds a Class A CDL from Colorado. His driving record for the last 3 years shows no crashes and no convictions for moving violations in a CMV.

David R. Webb, Jr.

Mr. Webb, 48, has had amblyopia in his right eye since childhood. The visual acuity in his right eye is 20/60, and in his left eye, 20/20. Following an examination in 2013, his optometrist noted, “His visual condition is stable and he should be able to perform the driving tasks for commercial vehicles.” Mr. Webb reported that he has driven straight trucks for 15 years, accumulating 937,500 miles. He holds an operator's license from Illinois. His driving record for the last 3 years shows no crashes and no convictions for moving violations in a CMV.

Wesley A. Willis

Mr. Willis, 48, has had amblyopia in his right eye since birth. The visual acuity in his right eye is 20/200, and in his left eye, 20/20. Following an examination in 2013, his optometrist noted, “As long as patient wears corrective lenses to operate a commerciasl [sic] motor vehicle he has sufficient vision to perform driving tasks.” Mr. Willis reported that he has driven straight trucks for 7 years, accumulating 320,999 miles, and buses for 3 years, accumulating 97,998 miles. He holds a Class B CDL from New Jersey. His driving record for the last 3 years shows no crashes and no convictions for moving violations in a CMV.

Request for Comments

In accordance with 49 U.S.C. 31136(e) and 31315, FMCSA requests public comment from all interested persons on the exemption petitions described in this notice. The Agency will consider all comments received before the close of business December 12, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2013-0170 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change this proposed rule based on your comments. FMCSA may issue a final rule at any time after the close of the comment period.

Viewing Comments and Documents

To view comments, as well as any documents mentioned in this preamble, To submit your comment online, go to http://www.regulations.gov and in the search box insert the docket number FMCSA-2013-0170 and click “Search.” Next, click “Open Docket Folder” and you will find all documents and comments related to the proposed rulemaking.

Issued on: November 1, 2013.
Larry W. Minor,
Associate Administrator for Policy.

[FR Doc. 2013-26877 Filed 11-8-13; 8:45 am]

BILLING CODE 4910-EX-P